DEPARTMENT OF TRANSPORTATION

Office of the Secretary

Notice of Applications for Certificates of Public Convenience and Necessity and Foreign Air Carrier Permits Filed Under Subpart Q During the Week Ending April 21, 2000

The following Applications for Certificates of Public Convenience and Necessity and Foreign Air Carrier Permits were filed under Subpart Q of the Department of Transportation's Procedural Regulations (See 14 CFR 302.1701 et seq.). The due date for Answers, Conforming Applications, or Motions to modify Scope are set forth below for each application. Following the Answer period DOT may process the application by expedited procedures. Such procedures may consist of the adoption of a show-cause order, a tentative order, or in appropriate cases a final order without further proceedings.

Docket Number: OST-2000-7277.

Date Filed: April 21, 2000.

Due Date for Answers, Conforming Applications, or Motion to Modify Scope: May 12, 2000.

Description: Application of Mandarin Airlines Company, Ltd. (“Mandarin”) pursuant to 49 U.S.C. 41301, 41305 and subpart Q, applies for a foreign air carrier permit to allow it to engage in scheduled foreign air transportation of persons, property, and mail between Taipei, Taiwan, and Saipan, Commonwealth of the Northern Mariana Islands.

Docket Number: OST-2000-7281.

Date Filed: April 21, 2000.

Due Date for Answers, Conforming Applications, or Motion to Modify Scope: May 12, 2000.

Description: Application of Air Namibia (Pty) Ltd. pursuant to 49 U.S.C. 40109, 41302, parts 211, 302 and subpart Q, applies for a foreign air carrier permit authorizing it to engage in scheduled foreign air transportation of persons, property and mail between a point or points in Namibia, on the one hand, via intermediate points in both directions, to a point or points in the United States, on the other hand. Air Namibia also requests authority to operate charters pursuant to 14 CFR section 212.

Andrea M. Jenkins,
Federal Register Liaison.

[FR Doc. 00-11689 Filed 5-9-00; 8:45 am]

BILLING CODE 4910-62-P